ENVIRONMENTAL PROTECTION AGENCY

[FRL-8743-6]

Underground Injection Control Program; Petition To Renew Exemption From Hazardous Waste Disposal Restrictions to the Resource Conservation and Recovery Act; Class I Hazardous Waste Injection; Occidental Chemical Corporation

AGENCY: Environmental Protection Agency.

ACTION: Notice of final decision on petition.

SUMMARY: Notice is hereby given that renewal of an exemption to the Land Disposal Restrictions under the 1984 Hazardous and Solid Waste Amendments to the Resource Conservation and Recovery Act has been granted to Occidental Chemical Corporation (Occidental) for five Class I hazardous waste injection wells, identified as Well Nos. 3, 4, 7, 8, and 9, and located at Occidental's chemical manufacturing facility near Wichita, Kansas. As required by Code of Federal Regulations (CFR) Part 148, Occidental has satisfactorily demonstrated to the Environmental Protection Agency by petition and supporting documentation that, to a reasonable degree of certainty, there will be no migration of hazardous constituents from the injection zone for as long as the waste remains hazardous, and therefore is protective of underground sources of drinking water. This time period is defined by 40 CFR 148.20 as 10,000 years. The final decision allows the underground injection by Occidental of the specific restricted hazardous waste, identified in the Petition, into Well Numbers 3, 4, 7, 8, and 9 for as long as the basis for granting approval of the petition remains valid, under provisions of 40 CFR 148.24. For the purpose of the required demonstration of no-migration of hazardous waste out of the injection zone over a 10,000 year period, modeling and projections were based on an operational lifetime projection date of December 31, 2020. Therefore, on or by the closing date of the aforementioned operational period, the operator will be required to obtain another exemption re-issuance from EPA. Included in this approval is the stipulation that Occidental acquires and continues to maintain approved Class I hazardous waste injection well permits from the Kansas Department of Health and Environment. As required by 40 CFR 124.10, a public notice was issued on July 21, 2008. In addition to having solicited written comments regarding the Agency's proposed approval, EPA also announced that a formal public hearing would be held if there was a significant degree of public interest, but no interest was expressed, hence no formal public hearing was conducted. The public comment period ended on September 3, 2008. All comments have been addressed and considered in the final decision. This decision constitutes final Agency action and there is no administrative appeal process that can be applied to a final petition decision.

DATES: Effective Date: This action is effective as of October 24, 2008.

ADDRESSES: Copies of the petition and all pertinent information relating thereto, including the Agency's response to comments, are on file at the following location: Environmental Protection Agency, Region 7, Regional Records Center, 901 N. 5th St., Kansas City, Kansas 66101.

FOR FURTHER INFORMATION CONTACT: Mary T. Mindrup, Chief, Drinking Water Management Branch, Environmental Protection Agency, Region 7. Telephone (913) 551-7431, or e-mail to mindrup.mary@epa.gov.

Dated: October 24, 2008.
John B. Askew,
Regional Administrator, Region 7.

[FR Doc. E8-27734 Filed 11-21-08; 8:45 am]

BILLING CODE 6560-50-M